FEDERAL COMMUNICATIONS COMMISSION

47 CFR Chapter 1

[CC Docket No. 96-187; CC Docket No. 98-108; DA 02-583]

Termination of Stale or Moot Docketed Proceedings; Correction

AGENCY: Federal Communications Commission.

ACTION: Final rule; termination of docketed proceedings; correction.

SUMMARY: In an order adopted December 21, 2001 and released January 11, 2002, the Commission terminated stale or moot docketed proceedings (Termination Order). Inadvertently two docketed proceedings were terminated in error. This document corrects that error by reinstating to pending status CC Docket No. 96-187 and CC Docket No. 98-108.

DATES: Effective March 12, 2002.

FOR FURTHER INFORMATION CONTACT: Lynne Milne, Common Carrier Bureau, Competitive Pricing Division, (202) 418-1520.

SUPPLEMENTARY INFORMATION: In the Federal Register Doc. 02-1859 published on January 25, 2002 (67 FR 3617), the Commission inadvertently terminated docketed proceedings in FCC 01-385. Make the first correction on page 3618 by removing the seventh entry of the appendix as follows: CC 96-187 Implementation of a Section of the Telecommunications Act of 1996—RO 62 FR 5757.

Make the last correction on page 3618 by removing the thirteenth entry of the appendix as follows: CC 98-108 Beehive Telephone Company, Inc., Beehive Telephone, Inc. Nevada—ON 14 FCC Rcd 8077.

Federal Communications Commission.
William F. Caton,
Acting Secretary.

[FR Doc. 02-6930 Filed 3-21-02; 8:45 am]

BILLING CODE 6712-01-P